DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's Web site (http://www.treasury.gov/ofac).

Notice of OFAC Actions

On November 29, 2017, OFAC determined that the property and interests in property of the following persons are blocked under the relevant sanctions authority listed below.

Individuals

1. AGUINO ARBOLEDA, Junior Onofre (Latin: AGUIÑO ARBOLEDA, Junior Onofre) (a.k.a. “DIOS Y CIEGO”), Colombia; DOB 16 Sep 1989; POB Tumaco, Narino, Colombia; Gender Male; Cedula No. 1087132209 (Colombia) (individual) [SDNTK]. Designated pursuant to section 805(b)(2) of the Kingpin Act, 21 U.S.C. 1904(b)(2), for materially assisting in, or providing financial or technological support for or to, or providing goods or services in support of, the international narcotics trafficking activities of RUANO YANDUN.

2. RUANO YANDUN, Tito Aldemar (a.k.a. “DON T”; a.k.a. “DON TI”; a.k.a. “DON TITO”), Colombia; DOB 18 Oct 1975; POB Ipiales, Narino, Colombia; nationality Colombia; citizen Colombia; Gender Male; Cedula No. 98337819 (Colombia) (individual) [SDNTK]. Designated pursuant to section 805(b)(4) of the Kingpin Act, 21 U.S.C. 1904(b)(4), for playing a significant role in international narcotics trafficking.

Entity

1. RUANO YANDUN DRUG TRAFFICKING ORGANIZATION (a.k.a. “RUANO YANDUN DTO”), Narino, Colombia; Ecuador [SDNTK]. Designated pursuant to section 805(b)(4) of the Kingpin Act, 21 U.S.C. 1904(b)(4), for playing a significant role in international narcotics trafficking.

Dated: November 29, 2017.
John E. Smith,
Director, Office of Foreign Assets Control.

[FR Doc. 2017-26019 Filed 12-1-17; 8:45 am]

BILLING CODE 4810-AL-P